DEPARTMENT OF THE TREASURY

Office of Foreign Assets Control

Unblocking of Specially Designated Nationals and Blocked Persons Pursuant To Executive Order 12978

AGENCY: Office of Foreign Assets Control, Treasury.

ACTION: Notice.

SUMMARY: The Department of the Treasury's Office of Foreign Assets Control (“OFAC”) is publishing the name of one entity whose property and interests in property have been unblocked pursuant to Executive Order 12978 of October 21, 1995, “Blocking Assets and Prohibiting Transactions With Significant Narcotics Traffickers.” In addition, OFAC is publishing an amendment to the identifying information of four individuals previously designated pursuant to Executive Order 12978 to remove the name of the entity from their published identifying information.

DATES: The unblocking and removal from the list of Specially Designated Nationals and Blocked Persons (“SDN List”) of the one entity identified in this notice whose property and interests in property were blocked pursuant to Executive Order 12978 of October 21, 1995, is effective on April 3, 2013.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

This document and additional information concerning OFAC are available from OFAC's Web site (www.treasury.gov/ofac) or via facsimile through a 24-hour fax-on demand service at (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) the foreign persons listed in an Annex to the Order; (2) any foreign person determined by the Secretary of Treasury, in consultation with the Attorney General and the Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On April 3, 2013, the Director of OFAC removed from the SDN List the entity listed below, whose property and interests in property were blocked pursuant to the Order:

CORPORACION DEPORTIVA AMERICA (a.k.a. CLUB AMERICA DE CALI; a.k.a. CLUB DEPORTIVO AMERICA), Carrera 56 No. 2-70, Cali, Colombia; Avenida Guadalupe No. 2-70, Cali, Colombia; Calle 24N No. 5BN-22, Cali, Colombia; Calle 13 Carrera 70, Cali, Colombia; Sede Cascajal, Cali, Colombia; Sede Naranjal, Cali, Colombia; NIT # 890305773-4 (Colombia) [SDNT].

In addition, OFAC has amended the identifying information for the following individuals previously designated pursuant to Order:

1. PUENTE GONZALEZ, Carlos Alberto, c/o CORPORACION DEPORTIVA AMERICA, Cali, Colombia; DOB 28 Nov 1937; Cedula No. 2449885 (Colombia); Passport 2449885 (Colombia) (individual) [SDNT].

2. RODRIGUEZ MONDRAGON, Jaime, c/o PLASTICOS CONDOR LTDA., Cali, Colombia; c/o LABORATORIOS KRESSFOR DE COLOMBIA S.A., Bogota, Colombia; c/o FLEXOEMPAQUES LTDA., Cali, Colombia; c/o GRACADAL S.A., Cali, Colombia; c/o LABORATORIOS BLAIMAR DE COLOMBIA S.A., Bogota, Colombia; c/o MARIELA DE RODRIGUEZ Y CIA. S. EN C., Cali, Colombia; c/o PENTA PHARMA DE COLOMBIA S.A., Bogota, Colombia; c/o DISTRIBUIDORA MIGIL LTDA., Cali, Colombia; c/o RIONAP COMERCIO Y REPRESENTACIONES S.A., Quito, Ecuador; c/o DISTRIBUIDORA DE DROGAS CONDOR LTDA., Bogota, Colombia; c/o DISTRIBUIDORA DE DROGAS LA REBAJA S.A., Bogota, Colombia; c/o DEPOSITO POPULAR DE DROGAS S.A., Cali, Colombia; c/o FARMATODO S.A., Bogota, Colombia; c/o BLANCO PHARMA S.A., Bogota, Colombia; c/o CORPORACION DEPORTIVA AMERICA, Cali, Colombia; c/o D'CACHE S.A., Cali, Colombia; c/o INVERSIONES MONDRAGON Y CIA. S.C.S., Cali, Colombia; c/o CREDIREBAJA S.A., Cali, Colombia; c/o ASESORIAS DE INGENIERIA EMPRESA UNIPERSONAL, Cali, Colombia; c/o BONOMERCAD S.A., Bogota, Colombia; c/o DECAFARMA S.A., Bogota, Colombia; c/o DROCARD S.A., Bogota, Colombia; c/o INVERSIONES Y CONSTRUCCIONES COSMOVALLE LTDA., Cali, Colombia; c/o JAROMO INVERSIONES S.L., Madrid, Spain; c/o PROSPECTIVA EMPRESA UNIPERSONAL, Cali, Colombia; c/o REPRESENTACIONES Y DISTRIBUCIONES HUERTAS Y ASOCIADOS S.A., Bogota, Colombia; c/o SERVICIOS DE LA SABANA E.U., Bogota, Colombia; c/o FUNDASER, Cali, Colombia; c/o LATINFAMRACOS S.A., Quito, Ecuador; c/o ALERO S.A., Cali, Colombia; c/o MEGAPLAST S.A., Palmira, Valle, Colombia; DOB 30 Mar 1960; Cedula No. 16637592 (Colombia); Passport AE426347 (Colombia); alt. Passport 16637592 (Colombia); N.I.E. x2641093-A (Spain) (individual) [SDNT].

3. RODRIGUEZ MONDRAGON, Maria Alexandra (a.k.a. RODRIGUEZ MONDRAGON, Alexandra), c/o BLANCO PHARMA S.A., Bogota, Colombia; c/o DEPOSITO POPULAR DE DROGAS S.A., Cali, Colombia; c/o DISTRIBUIDORA MIGIL LTDA., Cali, Colombia; c/o MARIELA DE RODRIGUEZ Y CIA. S. EN C., Cali, Colombia; c/o PENTA PHARMA DE COLOMBIA S.A., Bogota, Colombia; c/o TOBOGON, Cali, Colombia; c/o DISTRIBUIDORA DE DROGAS CONDOR LTDA., Bogota, Colombia; c/o DISTRIBUIDORA DE DROGAS LA REBAJA S.A., Bogota, Colombia; c/o LABORATORIOS BLAIMAR DE COLOMBIA S.A., Bogota, Colombia; c/o GRACADAL S.A., Cali, Colombia; c/o INTERAMERICA DE CONSTRUCCIONES S.A., Cali, Colombia; c/o CORPORACION DEPORTIVA AMERICA, Cali, Colombia; c/o D'CACHE S.A., Cali, Colombia; c/o INVERSIONES MONDRAGON Y CIA. S.C.S., Cali, Colombia; c/o MARIELA MONDRAGON DE R. Y CIA. S. EN C., Cali, Colombia; c/o CREDIREBAJA S.A., Cali, Colombia; c/o CUSTOMER NETWORKS S.L., Madrid, Spain; c/o DROCARD S.A., Bogota, Colombia; c/o INVERSIONES INMOBILIARIAS VALERIA S.L., Madrid, Spain; c/o INVERSIONES Y CONSTRUCCIONES COSMOVALLE LTDA., Cali, Colombia; c/o SISTEMAS Y SERVICIOS TECNICOS EMPRESA UNIPERSONAL, Cali, Colombia; c/o FUNDASER, Cali, Colombia; c/o ALERO S.A., Cali, Colombia; DOB 30 May 1969; alt. DOB 05 May 1969; Cedula No. 66810048 (Colombia); Passport AD359106 (Colombia); alt. Passport 66810048 (Colombia); N.I.E. X2561613-B (Spain) (individual) [SDNT].

4. RODRIGUEZ OREJUELA DE GIL, Amparo, c/o DISTRIBUIDORA MIGIL LTDA., Cali, Colombia; c/o LABORATORIOS BLAIMAR DE COLOMBIA S.A., Bogota, Colombia; c/o CREACIONES DEPORTIVAS WILLINGTON LTDA., Cali, Colombia; c/o DEPOSITO POPULAR DE DROGAS S.A., Cali, Colombia; c/o LABORATORIOS KRESSFOR DE COLOMBIA S.A., Bogota, Colombia; c/o BLANCO PHARMA S.A., Bogota, Colombia; c/o RADIO UNIDAS FM S.A., Cali, Colombia; c/o DISTRIBUIDORA DE DROGAS CONDOR LTDA., Bogota, Colombia; c/o CORPORACION DEPORTIVA AMERICA, Cali, Colombia; c/o D'CACHE S.A., Cali, Colombia; c/o DROBLAM S.A., Cali, Colombia; c/o AQUILEA S.A., Cali, Colombia; DOB 13 Mar 1949; Cedula No. 31218703 (Colombia); Passport AC342062 (Colombia) (individual) [SDNT].

The listings for these individuals now appear as:

1. PUENTE GONZALEZ, Carlos Alberto; DOB 28 Nov 1937; Cedula No. 2449885 (Colombia); Passport 2449885 (Colombia) (individual) [SDNT].

2. RODRIGUEZ MONDRAGON, Jaime; DOB 30 Mar 1960; Cedula No. 16637592 (Colombia); Passport AE426347 (Colombia); alt. Passport 16637592 (Colombia); N.I.E. x2641093-A (Spain) (individual) [SDNT] (Linked To: PLASTICOS CONDOR LTDA.; Linked To: LABORATORIOS KRESSFOR DE COLOMBIA S.A.; Linked To: FLEXOEMPAQUES LTDA.; Linked To: LABORATORIOS BLAIMAR DE COLOMBIA S.A.; Linked To: INVERSIONES MONDRAGON Y CIA. S.C.S.; Linked To: PENTA PHARMA DE COLOMBIA S.A.; Linked To: RIONAP COMERCIO Y REPRESENTACIONES S.A.; Linked To: DISTRIBUIDORA DE DROGAS CONDOR LTDA.; Linked To: DISTRIBUIDORA DE DROGAS LA REBAJA S.A.; Linked To: DEPOSITO POPULAR DE DROGAS S.A.; Linked To: LABORATORIOS BLANCO PHARMA S.A.; Linked To: D'CACHE S.A.; Linked To: CREDIREBAJA S.A; Linked To: ASESORIAS DE INGENIERIA EMPRESA UNIPERSONAL; Linked To: BONOMERCAD S.A.; Linked To: DECAFARMA S.A.; Linked To: DROCARD S.A.; Linked To: JAROMO INVERSIONES S.L.; Linked To: PROSPECTIVA EMPRESA UNIPERSONAL; Linked To: REPRESENTACIONES Y DISTRIBUCIONES HUERTAS Y ASOCIADOS S.A.; Linked To: SERVICIOS DE LA SABANA E.U.; Linked To: FUNDASER; Linked To: ALERO S.A.; Linked To: MEGAPLAST S.A.; Linked To: DISMERCOOP; Linked To: DISTRIBUIDORA MIGIL LTDA.; Linked To: LATINOAMERICANA DE FARMACOS S.A.).

3. RODRIGUEZ MONDRAGON, Maria Alexandra (a.k.a. RODRIGUEZ MONDRAGON, Alexandra); DOB 30 May 1969; alt. DOB 05 May 1969; Cedula No. 66810048 (Colombia); Passport AD359106 (Colombia); alt. Passport 66810048 (Colombia); N.I.E. X2561613-B (Spain) (individual) [SDNT] (Linked To: LABORATORIOS BLANCO PHARMA S.A.; Linked To: DEPOSITO POPULAR DE DROGAS S.A.; Linked To: DISTRIBUIDORA MIGIL LTDA.; Linked To: INVERSIONES MONDRAGON Y CIA. S.C.S.; Linked To: PENTA PHARMA DE COLOMBIA S.A.; Linked To: TOBOGON; Linked To: DISTRIBUIDORA DE DROGAS CONDOR LTDA.; Linked To: DISTRIBUIDORA DE DROGAS LA REBAJA S.A.; Linked To: LABORATORIOS BLAIMAR DE COLOMBIA S.A.; Linked To: DISMERCOOP; Linked To: INTERAMERICANA DE CONSTRUCCIONES S.A.; Linked To: D'CACHE S.A.; Linked To: MARIELA MONDRAGON DE R. Y CIA. S. EN C.; Linked To: CREDIREBAJA S.A; Linked To: DROCARD S.A.; Linked To: INVERSIONES INMOBILIARIAS VALERIA S.L.; Linked To: SISTEMAS Y SERVICIOS TECNICOS EMPRESA UNIPERSONAL; Linked To: FUNDASER; Linked To: ALERO S.A.).

4. RODRIGUEZ OREJUELA DE GIL, Amparo; DOB 13 Mar 1949; Cedula No. 31218703 (Colombia); Passport AC342062 (Colombia) (individual) [SDNT] (Linked To: LABORATORIOS BLAIMAR DE COLOMBIA S.A.; Linked To: DISTRIBUIDORA MIGIL LTDA.; Linked To: DEPOSITO POPULAR DE DROGAS S.A.; Linked To: LABORATORIOS KRESSFOR DE COLOMBIA S.A.; Linked To: LABORATORIOS BLANCO PHARMA S.A.; Linked To: RADIO UNIDAS FM S.A.; Linked To: DISTRIBUIDORA DE DROGAS CONDOR LTDA.; Linked To: D'CACHE S.A.; Linked To: LABORATORIOS Y COMERCIALIZADORA DE MEDICAMENTOS DROBLAM S.A.; Linked To: AQUILEA S.A.).

Dated: April 3, 2013.
Adam J. Szubin,
Director, Office of Foreign Assets Control.

[FR Doc. 2013-08359 Filed 4-9-13; 8:45 am]

BILLING CODE 4810-AL-P